DEPARTMENT OF HOMELAND SECURITY

Coast Guard

33 CFR Part 117

[CGD08-02-035]

RIN 1626-AA09

Drawbridge Operation Regulation Change; St. Croix River, Minnesota and Wisconsin

AGENCY: Coast Guard, DHS.

ACTION: Notice of proposed rulemaking; reopening of comment period.

SUMMARY: The Coast Guard published a notice of proposed rulemaking (NPRM) on April 16, 2002, proposing to change the regulations governing four drawbridges across the St. Croix River. The NPRM contained a statement regarding the S36 Bridge, mile 23.4, at Stillwater that might have confused the public. The Coast Guard is further explaining the statement and reopening the comment period for 30 days.

DATES: Comments must be received by April 24, 2003.

ADDRESSES: Comments and materials received from the public, as well as documents indicated in this preamble as being available in the docket, are part of docket CGD08-02-035 and are available for inspection or copying at room 2.107f in the Robert A. Young Federal Building at Eighth Coast Guard District, Bridge Branch, 1222 Spruce Street, St. Louis, MO 63103-2832, between 7 a.m. and 4 p.m., Monday through Friday, except Federal holidays. The telephone number is (314) 539-3900, extension 2378. The Bridge Branch maintains the public docket for this rulemaking.

FOR FURTHER INFORMATION CONTACT: Mr. Roger K. Wiebusch, Eighth Coast Guard District Bridge Branch, Bridge Administrator, (314) 539-3900, extension 2378.

SUPPLEMENTARY INFORMATION: The Coast Guard published a notice of proposed rulemaking (NPRM) in the Federal Register on April, 16, 2002, (67 FR 18521), proposing to amend the operating regulations governing four bridges across the St. Croix River. The NPRM stated that the existing regulation for the S36 Bridge in Stillwater, Minnesota, 33 CFR 117.667(b), contained a 24-hour notice requirement for openings beginning on October 16. In fact, operation of the S36 Bridge is currently regulated by 33 CFR 117.5 which requires that the bridge open on signal at all times. The NPRM proposed to add a new paragraph to the existing S36 Bridge regulation, § 117.667(b)(3), to require 24-hour notice for the opening of the S36 Bridge between October 16 and May 14. The Coast Guard is reopening the comment period for 30 days to take additional comments regarding this explanation.

Comments that have already been received as of the date of publication of this notice will remain part of the docket for this proposed rule. Those comments, and any new comments received before the expiration of the additional comment period, will be considered in developing a final rule.

Dated: March 12, 2003.
Roy J. Casto,
Rear Admiral, U.S. Coast Guard, Commander, Eighth Coast Guard District.

[FR Doc. 03-7079 Filed 3-24-03; 8:45 am]

BILLING CODE 4910-15-P